NUCLEAR REGULATORY COMMISSION

Agency Information Collection Activities: Submission for the Office of Management and Budget (OMB) Review; Comment Request

AGENCY: U. S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: Revision.

2. The title of the information collection: NRC Form 244, Registration Certificate—Use of Depleted Uranium under General License.

3. The form number if applicable: NRC Form 244.

4. How often the collection is required: On occasion. NRC Form 244 is submitted when depleted uranium is received or transferred under general license. Information on NRC Form 244 is collected and evaluated on a continuing basis as events occur.

5. Who will be required or asked to report: Persons receiving, possessing, using, or transferring depleted uranium under the general license established in 10 CFR 40.25(a).

6. An estimate of the number of annual responses: 5 (2 NRC licensees and 3 Agreement State licensees).

7. The estimated number of annual respondents: 5 (2 NRC licensees and 3 Agreement State licensees).

8. The number of hours needed annually to complete the requirement or request: 5 (1 hour per response—2 hours for NRC licensees and 3 hours for Agreement State licensees).

9. An indication of whether section 3507(d), Public Law 104-13 applies: Not applicable.

10. Abstract: 10 CFR part 40 establishes requirements for licenses for the receipt, possession, use and transfer of radioactive source and byproduct material. NRC Form 244 is used to report receipt and transfer of depleted uranium under general license, as required by section 40.25. The registration certification information required by NRC Form 244 is necessary to permit the NRC to make a determination on whether the possession, use, and transfer of depleted uranium source and byproduct material is in conformance with the Commission's regulations for protection of public health and safety.

A copy of the final supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions should be directed to the OMB reviewer listed below by August 7, 2006. Comments received after this date will be considered if it is practical to do so, but assurance of consideration cannot be given to comments received after this date. John A. Asalone, Office of Information and Regulatory Affairs (3150-0031), NEOB-10202, Office of Management and Budget, Washington, DC 20503.

Comments can also be e-mailed to John_A._Asalone@omb.eop.gov or submitted by telephone at (202) 395-4650.

The NRC Clearance Officer is Brenda Jo. Shelton, 301-415-7233.

Dated at Rockville, Maryland, this 29th day of June, 2006.
For the Nuclear Regulatory Commission.
Brenda Jo. Shelton,
NRC Clearance Officer, Office of Information Services.

[FR Doc. E6-10523 Filed 7-5-06; 8:45 am]

BILLING CODE 7590-01-P